DEPARTMENT OF ENERGY

Federal Energy Regulatory Commission

[Docket No. RP00-184-000]

Natural Gas Pipeline Company of America; Notice of Technical Conference

April 26, 2000.

In the Commission's order issued on March 1, 2000,¹ the Commission directed that a technical conference be held to address issues raised by the filing.

¹ 90 FERC ¶ 61,342 (2000).

Take notice that the technical conference will be held on Thursday, May 11, 2000, at 10:00 am, in a room to be designated at the offices of the Federal Energy Regulatory Commission, 888 First Street, NE, Washington, D.C. 20426.

All interested parties and Staff are permitted to attend.

David P. Boergers,
Secretary.

[FR Doc. 00-10862 Filed 5-1-00; 8:45 am]

BILLING CODE 6717-01-M